DEPARTMENT OF HEALTH AND HUMAN SERVICES

National Institutes of Health

Office of the Director; Amended Notice of Meeting

Notice is hereby given of a correction in the meeting notice of the Big Data to Knowledge Multi-Council Working Group (BD2K) that was published in the Federal Register on Friday, December 11, 2015, 80 FRN 76996.

The date of the meeting is January 11, 2016. The time and meeting access codes remain the same.

A portion of the meeting is open to the public, 11 a.m. to 12:00 p.m. and is being held by teleconference only. No physical meeting location is provided for any interested individuals to listen to committee discussions. Any individual interested in listening to the meeting discussions must call: 1-866-692-3158 and use Passcode 2956317 for access to the meeting.

Dated: December 23, 2015.
Anna Snouffer,
Deputy Director, Office of Federal Advisory Committee Policy.

[FR Doc. 2015-32768 Filed 12-29-15; 8:45 am]

BILLING CODE 4140-01-P